DEPARTMENT OF HEALTH AND HUMAN SERVICES

National Institutes of Health

National Institute on Aging; Amended Notice of Meeting

Notice is hereby given of a change in the meeting of the Basic Neuroscience of Aging Review Committee, January 19, 2021, 11:00 a.m. to January 21, 2021, 04:00 p.m., National Institute on Aging, Gateway Building, 7201 Wisconsin Avenue, Bethesda, MD 20892 which was published in the Federal Register on November 25, 2020, 85 FR 75345.

The meeting notice is amended to change the date of the meeting from January 20-21 to January 19-21, 2021. The meeting is closed to the public.

Dated: December 18, 2020.
Miguelina Perez,
Program Analyst, Office of Federal Advisory Committee Policy.

[FR Doc. 2020-28525 Filed 12-23-20; 8:45 am]

BILLING CODE 4140-01-P